SECURITIES AND EXCHANGE COMMISSION

[Release No. 34-56809; File No. SR-Amex-2007-116]

Self-Regulatory Organizations; American Stock Exchange LLC; Notice of Filing of Proposed Rule Change, as Modified by Amendment Nos. 1 and 2 Thereto, To Harmonize the Annual Listing Fees for All Exchange Traded Funds

Correction

In notice document E7-22974 beginning on page 66203 in the issue of Tuesday, November 27, 2007, make the following correction:

On page 66205, in the second column, in the third paragraph, in the last line, “December 17, 2007” should read “December 18, 2007”.

[FR Doc. Z7-22974 Filed 12-10-07; 8:45 am]

BILLING CODE 1505-01-D